DEPARTMENT OF THE INTERIOR

National Park Service

[NPS-WASO-NAGPRA-NPS0034443; PPWOCRADN0-PCU00RP14.R50000]

Notice of Inventory Completion Amendment: The Filson Historical Society, Louisville, KY

AGENCY: National Park Service, Interior.

ACTION: Notice; amendment.

SUMMARY: In accordance with the Native American Graves Protection and Repatriation Act (NAGPRA), the Filson Historical Society has amended a Notice of Inventory Completion published in the Federal Register on March 1, 2019. This notice amends the number of associated funerary objects and the cultural affiliation of human remains and associated funerary objects in a collection removed from Fort Clark in Mercer County, ND.

DATES: Repatriation of the human remains and associated funerary objects in this notice may occur on or after October 6, 2022.

ADDRESSES: Kelly Hyberger, Filson Historical Society, 1310 South Third Street, Louisville, KY 40208, telephone (502) 635-5083, email khyberger@filsonhistorical.org.

SUPPLEMENTARY INFORMATION: This notice is published as part of the National Park Service's administrative responsibilities under NAGPRA. The determinations in this notice are the sole responsibility of the Filson Historical Society. The National Park Service is not responsible for the determinations in this notice. Additional information on the amendments and determinations in this notice, including the results of consultation, can be found in the inventory or related records held by the Filson Historical Society.

Amendment

This notice amends the determinations published in a Notice of Inventory Completion in the Federal Register (84 FR 7112, March 1, 2019). Repatriation of the items in the original Notice of Inventory Completion has not occurred. This notice corrects the site location of the human remains and associated funerary objects, the number of associated funerary objects, and the cultural affiliation of the human remains and associated funerary objects as a result of additional documentation being found in our files. The corrected History and Description of the Remains should read:

In 1912, human remains representing, at minimum, one individual were removed from the vicinity of Fort Clark in Mercer County, ND, by Bernhardt George Letzring. According to a hand-written note from Letzring dated April 5, 1935, he removed the remains of this individual and the associated funerary objects from graves located about “40 feet northwest of the old Ruins of oven at Fort Clark on the bank of the Missouri River in Mercer County, North Dakota.” At that time, Letzring identified these human remains as those of Sacajawea. Sometime prior to 1935, Letzring gave the human remains and associated funerary objects to Lewis A. Walter of Louisville, KY. In 1935, Walter loaned these items to the Filson Historical Society, and in 1951, the estate of Lewis A. Walter gifted them to the museum. There is no evidence whatsoever to suggest any validity to the claim that these are the human remains of Sacajawea. No known individual was identified. The 40 associated funerary objects are three elk tooth beads, four decorated glass trade beads, 22 solid color glass trade beads, two glass trade bead fragments, one bone gorget, one clay pipe fragment, one metal pipe bowl, one stone pipe bowl, one cowrie shell necklace, one cowrie shell bracelet, one rattlesnake tail, one cluster of cotton pods, and one bundle of natural fiber rope.

The human remains and associated funerary objects were removed from a burial ground located just outside the boundaries of Fort Clark and near a well-documented Mandan and Arikara village and burial ground. First the Mandan and later the Arikara occupied this village from the 1790s until 1862. Existing trade networks with the Mandan prompted colonial fur traders to establish Fort Clark in 1831, approximately 900 feet from the village. Following construction of the Fort, a complex trade economy continued to develop between the Fort's occupants and the neighboring Mandan and Arikara. Both the presence of European trade beads among the associated funerary objects and the geographic location of the grave suggest that the human remains of the individual described in this notice are culturally affiliated to the Mandan and Arikara.

Determinations (as Amended)

Pursuant to NAGPRA and its implementing regulations, and after consultation with the appropriate Indian Tribes and Native Hawaiian organizations, the Filson Historical Society has determined that:

• The human remains described in this amended notice represent the physical remains of one individual of Native American ancestry.

• The 40 objects described in this amended notice are reasonably believed to have been placed with or near individual human remains at the time of death or later as part of the death rite or ceremony.

• There is a relationship of shared group identity that can be reasonably traced between the human remains and associated funerary objects described in this notice and the Three Affiliated Tribes of the Fort Berthold Reservation, North Dakota.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after October 6, 2022. If competing requests for repatriation are received, the Filson Historical Society must determine the most appropriate requestor prior to repatriation. Requests for joint repatriation of the human remains and associated funerary objects are considered a single request and not competing requests. The Filson Historical Society is responsible for sending a copy of this notice to the Indian Tribes and Native Hawaiian organizations identified in this notice.

Authority: Native American Graves Protection and Repatriation Act, 25 U.S.C. 3003, and the implementing regulations, 43 CFR 10.9, § 10.10, § 10.13, and § 10.14.

Dated: August 29, 2022.
Melanie O'Brien,
Manager, National NAGPRA Program.

[FR Doc. 2022-19162 Filed 9-2-22; 8:45 am]

BILLING CODE 4312-52-P